DEPARTMENT OF COMMERCE

International Trade Administration

[A-560-822, A-583-843, A-552-806]

Postponement of Preliminary Determination of Antidumping Duty Investigations: Polyethylene Retail Carrier Bags from Indonesia, Taiwan, and the Socialist Republic of Vietnam

AGENCY: Import Administration, International Trade Administration, Department of Commerce.

EFFECTIVE DATE: August 21, 2009.

FOR FURTHER INFORMATION CONTACT: Yang Jin Chun at (202) 482-5760 (Indonesia) or Dmitry Vladimirov at (202) 482-0665 (Taiwan), AD/CVD Operations, Office 5; Maisha Cryor at (202) 482-5831 (Socialist Republic of Vietnam), AD/CVD Operations, Office 4, Import Administration, International Trade Administration, U.S. Department of Commerce, 14th Street and Constitution Avenue, NW, Washington, DC 20230.

SUPPLEMENTARY INFORMATION:

Postponement of Preliminary Determinations

On April 20, 2009, the Department of Commerce (the Department) initiated the antidumping duty investigations on polyethylene retail carrier bags from Indonesia, Taiwan, and the Socialist Republic of Vietnam. See Polyethylene Retail Carrier Bags From Indonesia, Taiwan, and the Socialist Republic of Vietnam: Initiation of Antidumping Duty Investigations, 74 FR 19049 (April 27, 2009). The notice of initiation stated that the Department would issue its preliminary determinations for these investigations no later than 140 days after the issuance of the initiation in accordance with section 733(b)(1)(A) of the Tariff Act of 1930, as amended (the Act), and 19 CFR 351.205(b)(1) unless postponed. On August 13, 2009, Hilex Poly Co., LLC, and Superbag Corporation (the petitioners) made timely requests pursuant to 19 CFR 351.205(b)(2) and (e) for postponement of the preliminary determinations in these investigations.

Taiwan

With regard to Taiwan, the petitioners requested a 42-day postponement of the preliminary determination in order to allow the Department additional time to resolve a number of issues in the investigation.

For reasons identified by the petitioners and because there are no compelling reasons to deny the request, the Department is postponing the deadline for the preliminary determination in accordance with section 733(c)(1)(A) of the Act and 19 CFR 351.205(b)(2) and (e) by 42 days to October 19, 2009. The deadline for the final determination will continue to be 75 days after the date of the preliminary determination, unless extended.

Indonesia and Vietnam

With regard to Indonesia and Vietnam, the petitioners requested a 50-day postponement of the preliminary determinations in order to allow the Department additional time to resolve a number of complex issues in the investigations.

For reasons identified by the petitioners and because there are no compelling reasons to deny the requests, the Department is postponing the deadline for the preliminary determinations in accordance with section 733(c)(1)(A) of the Act and 19 CFR 351.205(b)(2) and (e) by 50 days to October 27, 2009. The deadline for the final determinations will continue to be 75 days after the date of the preliminary determinations, unless extended.

This notice is issued and published pursuant to section 733(c)(2) of the Act and 19 CFR 351.205(f)(1).

Dated: August 17, 2009.
Carole A. Showers,
Acting Deputy Assistant Secretary for Policy and Negotiations.

[FR Doc. E9-20140 Filed 8-20-09; 8:45 am]

BILLING CODE 3510-DS-S